DEPARTMENT OF LABOR

Employment and Training Administration

[TA-W-41,288 & NAFTA-6104]

International Truck and Engine Corp., A Subsidiary of Navistar International Corp., Springfield, OH; Notice of Affirmative Determination Regarding Application for Reconsideration

By letter of October 9, 2003, the International Union, United Automobile, Aerospace & Agricultural Workers of America—UAW, Region 2B, and Local Unions 402 and 658 requested administrative reconsideration of the Department's negative determination regarding eligibility for workers and former workers of the subject firm to apply for Trade Adjustment Assistance (TAA) under petition TA-W-41,288 and North American Free Trade Agreement-Transitional Adjustment Assistance (NAFTA-TAA) under petition NAFTA-6104. The denial notices were signed on August 9, 2002, and published in the Federal Register on September 10, 2002 (67 FR 57454).

The Department reviewed the request for reconsideration and has determined that the Department will examine the petitioner's allegations claiming that the company may have shifted production to a foreign source and imported products competitive with those produced at the subject facility during the relevant period.

Conclusion

After careful review of the application, I conclude that the claim is of sufficient weight to justify reconsideration of the Department of Labor's prior decision. The application is, therefore, granted.

Signed at Washington, DC this 9th day of May, 2003.
Elliott S. Kushner,
Certifying Officer, Division of Trade Adjustment Assistance.

[FR Doc. 03-13402 Filed 5-28-03; 8:45 am]

BILLING CODE 4510-30-P